DEPARTMENT OF TRANSPORTATION

Office of the Secretary

Notice of Applications for Certificates of Public Convenience and Necessity and Foreign Air Carrier Permits Filed Under Subpart B (formerly Subpart Q) During the Week Ending August 17, 2013

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2012-0047.

Date Filed: August 15, 2013.

Due Date for Answers, Conforming Applications, or Motion to Modify Scope: September 5, 2013.

Description: Application of Joint Stock Company Aircompany “Yakutia” requesting an amended foreign air carrier permit adding authority for Yakutia to engage in scheduled foreign air transportation of persons, property, and mail between any point or points in the Russian Federation and Saipan, Commonwealth of the Northern Mariana Islands (CNMI), via intermediate points, and beyond.

Barbara J. Hairston,
Supervisory Dockets Officer, Docket Operations, Federal Register Liaison.

[FR Doc. 2013-22346 Filed 9-13-13; 8:45 am]

BILLING CODE 4910-9X-P